DEPARTMENT OF COMMERCE

National Oceanic and Atmospheric Administration

50 CFR Part 660

[Docket No. 020311051-2135-02; I.D. 022002C]

RIN 0648-AN75

Fisheries Off West Coast States and in the Western Pacific; Western Pacific Pelagic Fisheries; Pelagic Longline Gear Restrictions, Seasonal Area Closure, and Other Sea Turtle Take Mitigation Measures; Correction

AGENCY: National Marine Fisheries Service (NMFS), National Oceanic and Atmospheric Administration (NOAA), Commerce.

ACTION: Correction to a final rule.

SUMMARY: This document contains a correction to a final rule that was published on June 12, 2002.

DATES: Effective March 21, 2003.

FOR FURTHER INFORMATION CONTACT: Alvin Z. Katekaru, Pacific Islands Area Office, NMFS, 808-973-2937.

SUPPLEMENTARY INFORMATION:

Background

On June 12, 2002 (67 FR 40232), NMFS published a final rule in the Federal Register that implements the reasonable and prudent alternative of the March 29, 2001, Biological Opinion issued by NMFS under the Endangered Species Act. Section 660.22(ss) contains an incorrect reference.

Correction

In the rule FR Doc. 02-14749, in the issue of Wednesday, June 12, 2002(67 FR 40232), on page 40236, under (ss) on the eighth line of the first column, change “§ 660.33(h)” to “§ 660.33(i)”.

Dated: March 18, 2003.
Rebecca Lent,
Deputy Assistant Administrator for Regulatory Programs, National Marine Fisheries Service.

[FR Doc. 03-6850 Filed 3-20-03; 8:45 am]

BILLING CODE 3510-22-S